DEPARTMENT OF AGRICULTURE

Rural Business-Cooperative Service

[Docket No. RBS-20-BUSINESS-0035]

Notice of Solicitation of Applications for Inviting Applications for the Intermediary Relending Program for Fiscal Year 2021

AGENCY: Rural Business-Cooperative Service, USDA.

ACTION: Notice.

SUMMARY: This Notice is to invite applications under the Intermediary Relending Program (IRP) for fiscal year (FY) 2021, subject to availability of funding. This Notice is being issued in order to allow applicants enough time to leverage financing, prepare and submit their applications, and give the Agency time to process applications within FY 2021. The Agency anticipates a forthcoming IRP rulemaking that will incorporate the program statutory requirements established in the Agricultural Improvement Act of 2018 (2018 Farm Bill) and will improve and streamline process and efficiency in program administration.

Successful applications will be selected by the Agency for funding and subsequently awarded to the extent that funding may ultimately be made available through appropriations. An announcement on the website at https://www.rd.usda.gov/newsroom/fy2021-appropriated-funding will identify the amount received in the appropriations.

All applicants are responsible for any expenses incurred in developing their applications.

DATES: The deadlines for completed applications to be received in the USDA Rural Development State Office for quarterly funding competitions is no later than 4:30 p.m. (local time) on: First Quarter—September 30, 2020, Second Quarter—December 31, 2020, Third Quarter—March 31, 2021 and Fourth Quarter—June 30, 2021.

ADDRESSES: Applications must be submitted to the USDA Rural Development State Office for the state where the project is located. Applications may be submitted in paper or electronic format to the appropriate Rural Development State Office and must be received by 4:30 p.m. local time on the deadline date(s). Applicants are encouraged to contact their respective Rural Development State Office for an email contact to submit an electronic application prior to the submission deadline date(s). A list of the USDA Rural Development State Office contacts can be found at: https://www.rd.usda.gov/page/state-offices.

FOR FURTHER INFORMATION CONTACT: Lori Hood at (202) 720-9815, lori.hood@usda.gov or David Chestnut at (202) 692-5233, david.chestnut@usda.gov, Program Management Division, Business Programs, Rural Business-Cooperative Service, U.S. Department of Agriculture, 1400 Independence Avenue SW, MS 3226, Room 4202-S, Washington, DC 20250-3226, or call (202) 720-1400. For further information on this notice, please contact the USDA Rural Development State Office in the State in which the applicant's headquarters is located. A list of Rural Development State Office contacts is provided at the following link: https://www.rd.usda.gov/page/state-offices.

SUPPLEMENTARY INFORMATION:

Overview

Solicitation Opportunity Type: Intermediary Relending Program.

Announcement Type: Solicitation of Applications for FY 2021 funds.

Catalog of Federal Domestic Assistance Number: 10.767.

Dates: Applications are received on a continuous basis and compete for available funds on a quarterly basis. To compete for regular IRP funds, applications must be received in the USDA Rural Development State Office no later than 4:30 p.m. (local time) on: First Quarter—September 30, 2020, Second Quarter—December 31, 2020, Third Quarter—March 31, 2021 and Fourth Quarter—June 30, 2021.

Set-Aside Funding Dates: The Further Consolidated Appropriations Act, 2020 (Pub. L. 116-94) authorized set-aside funding to projects and intermediaries serving Federally-Recognized Native American Tribes, for Mississippi Delta Region Counties (as determined in accordance with Pub. L. 100-460). Eligible applicants for the set-aside funds must demonstrate that at least 75 percent of the benefits of an approved loan in this program will assist ultimate recipients in the designated areas. The completed application deadline for the Federally Recognized Native American Tribes and Mississippi Delta Region Counties projects is May 31, 2021. Completed applications for the Rural Empowerment Zone/Enterprise Communities/Rural Economic Area Partnership projects must be submitted by July 15, 2021.

A. Program Description

1. Purpose of the Program. The purpose of the program is to provide direct loans to intermediaries that establish revolving loan programs for the purpose of providing loans to ultimate recipients for business facilities and community developments in a rural area as outlined in 7 CFR 4274.301(b). All applicable program requirements in their entirety can be found at 7 CFR part 4274 subpart D.

2. Statutory Authority. This program is authorized under the Consolidated Farm and Rural Development Act (ConAct) (7 U.S.C. 1936b et seq.) and 7 CFR part 4274, subpart D. Awards under the IRP program will be made on a competitive basis using specific selection criteria contained in 7 CFR 4274.344(c).

3. Definition of Terms. The definitions applicable to this notice are published at 7 CFR 4274.302(a).

4. Application Awards. The Agency will review, evaluate and score applications received in response to this notice based on the provisions found in 7 CFR 4274.343 and 4274.344, subpart D, and as indicated in this notice. However, the Agency advises that all interested parties bear the burden in preparing and submitting an application in response to the notice whether or not funding is appropriated for this Program in FY 2021.

B. Federal Award Information

Type of Award: Loan.

Fiscal Year Funds: FY 2021.

Available Funds: Anyone interested in submitting an application for funding under this Program is encouraged to consult the Rural Development Notices of Solicitation of Applications website at: http://www.rd.usda.gov/newsroom/notices-solicitation-applications-nosas.

Maximum Award: The Agency anticipates a maximum award of $1 Million for eligible Intermediaries submitting a loan request.

Anticipated Award Dates—Regular Funding: First Quarter—November 30, 2020, Second Quarter—February 28, 2021, Third Quarter—May 31, 2021, Fourth Quarter—August 31, 2021.

Anticipated Award Date—Federally Recognized Native American Tribes and Mississippi Delta Region Counties Funding: June 15, 2021.

Anticipated Award Date—Empowerment Zones/Enterprise Communities/Rural Economic Area Partnership Funding: August 1, 2021.

Renewal or Supplemental Awards: None.

C. Eligibility Information

1. Eligible Applicants

Loans may be made to any entity that is identified by USDA Rural Development as an eligible borrower in accordance with 7 CFR 4274.307.

2. Cost Share or Matching

The IRP revolving fund share of the eligible project cost of an ultimate recipient's project funded under this Notice shall not exceed the lesser of: (a) $250,000, or (b) 75 per cent of the total cost of the ultimate recipient's project for which the loan is being made. The cost share requirement shall be met by the intermediary in accordance with the requirements specified in 7 CFR 4274.331(b).

3. Other

Applications will only be accepted from eligible intermediaries that establish, or have established, revolving loan programs for the purpose of providing loans to ultimate recipients for business facilities and community developments in a rural area.

There are no “responsiveness” or “threshold” eligibility criteria for these loans. However, not more than one loan will be approved by the Agency for an intermediary in any single fiscal year unless the additional request is from this program's set-aside funding.

4. Completeness Eligibility

Applications will not be considered for funding if they do not provide enough information to determine eligibility, are not suitable for evaluation or are missing required elements as stated in 7 CFR 4274.343.

D. Application and Submission Information

1. Address To Request Application Package

For further information, entities wishing to apply for assistance should contact the USDA Rural Development State Office provided in the ADDRESSES section of this notice, to obtain copies of the application package and also are encouraged to contact their respective Rural Development State office for an email contact so submit an electronic application prior to the submission deadline date(s). Please note that applicants may locate the downloadable application package for this program by the Catalog of Federal Domestic Assistance Number, which is 10.767.

All applicants must have a Dun and Bradstreet Data Universal Numbering System (DUNS) number which can be obtained at no cost via a toll-free request line at 1-866-705-5711 or online at http://fedgov.dnb.com/webform.

2. Content and Form of Submission

An application must contain all the required elements and each selection priority criterion outlined in 7 CFR 4274.343 must be addressed in the application. An original copy of the application must be filed with a Rural Development State Office for the state where the Intermediary is located.

The applicant documentation and forms needed for a complete application are located in 7 CFR 4274.343 There are no specific formats or limitations on the number of pages required for an application narrative, and applicants may request any Agency forms and addresses from the ADDRESSES section of this notice. Any form that requires an original signature, but is signed electronically in the application submission, must be signed in ink by the authorized person prior to the disbursement of funds.

3. Submission Dates and Times

Applications must be in the USDA Rural Development State Office by the dates and times as indicated above to compete for available funds in that fiscal quarter. If the due date falls on a Saturday, Sunday or federal holiday, the application is due the next business day. The Agency will determine the application receipt date based on the actual date postmarked.

E. Application Review Information

1. Criteria

All eligible and complete applications will be evaluated and scored based on the selection criteria and weights contained in 7 CFR 4274.344(c). Failure to address any one of the criteria by the application deadline will result in the application being determined ineligible, and the application will not be considered for funding.

2. Review and Selection Process

The Rural Development State Offices will review applications to determine if they are eligible for assistance based on the requirements contained in 7 CFR part 4274, subpart D. If determined eligible, your application will be submitted to the National Office for funding competition with all eligible applications received by the application deadline. The Agency Administrator reserves the right to award additional discretionary points under 7 CFR 4274.344(c)(6).

In order to distribute funds among the greatest number of projects possible, applications will be reviewed, organized and funded by ranking each state's highest-scoring project in order from highest to lowest subject for competition with ranked applications from other states for the available funding.

F. Federal Award Administration Information

1. Federal Award Notices

Successful applicants will receive notification for funding from the USDA Rural Development State Office. Applicants must comply with all applicable statutes and regulations before the loan award will be approved. An eligible application competing for regular IRP funds, but not selected, will be reconsidered in three subsequent quarterly funding competitions, for a total of four competitions, provided the application and eligibility requirements have not changed. After competing in four quarterly competitions, any unsuccessful applicant for regular funds will receive written notification indicating that their application will no longer be considered for funding. Applicants competing for set-aside funding have only one application period per fiscal year. Unsuccessful applicants for set-aside funding will receive written notification indicating that their application was not successful. An unsuccessful applicant for set-aside funding may elect, in writing, to submit their project for IRP regular fund competitions commencing with the next quarterly application period.

2. Administrative and National Policy Requirements

Additional requirements that apply to intermediaries selected for this Program can be found in 7 CFR part 4274, subpart D. All successful applicants will be notified by letter which will include a Letter of Conditions, and a Letter of Intent to Meet Conditions, which are not approval determinations. The loan will be considered approved when all conditions in the Letter of Conditions have been met and the Agency obligates the funding for the Project.

In addition, all recipients of Federal financial assistance are required to report information about first-tier sub-awards and executive compensation (see 2 CFR part 170). You will be required to have the necessary processes and systems in place to comply with the Federal Funding Accountability and Transparency Act of 2006 (Pub. L. 109-282) reporting requirements (see 2 CFR 170.200(b), unless you are exempt under 2 CFR 170.110(b)).

Intermediaries must collect and maintain data provided by Ultimate Recipients on race, sex, and national origin and ensure Ultimate Recipients collect and maintain this data. Race and ethnicity data will be collected in accordance with OMB Federal Register notice, “Revisions to the Standards for the Classification of Federal Data on Race and Ethnicity” (62 FR 58782), October 30, 1997. Sex data will be collected in accordance with Title IX of the Education Amendments of 1972. These items should not be submitted with the application but should be available upon request by the Agency.

The applicant and the Ultimate Recipient must comply with Title VI of the Civil Rights Act of 1964, Title IX of the Education Amendments of 1972, Americans with Disabilities Act (ADA), Section 504 of the Rehabilitation Act of 1973, Age Discrimination Act of 1975, Executive Order 12250, Executive Order 13166 Limited English Proficiency (LEP), and 7 CFR part 1901, subpart E.

G. Other Information

Paperwork Reduction Act

In accordance with the Paperwork Reduction Act of 1995, the information collection requirement contained in this notice is approved by OMB under OMB Control Number 0570-0070.

Federal Funding Accountability and Transparency Act

All applicants, in accordance with 2 CFR part 25, must have a DUNS number, which can be obtained at no cost via a toll-free request line at (866) 705-5711 or online at http://fedgov.dnb.com/webform. All recipients of Federal financial assistance are required to report information about first-tier sub-awards and executive total compensation in accordance with 2 CFR part 170.

Nondiscrimination Statement

In accordance with Federal civil rights law and U.S. Department of Agriculture (USDA) civil rights regulations and policies, the USDA, its agencies, offices, and employees, and institutions participating in or administering USDA Programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed complaint form or complaint letter to USDA by:

(1) Mail: U.S. Department of Agriculture, Office of the Assistant Secretary for Civil Rights, 1400 Independence Avenue SW, Washington, DC 20250-9410; or

(2) Email: program.intake@usda.gov.

USDA is an equal opportunity provider, employer, and lender.

Rebeckah Adcock,
Administrator, Rural Business-Cooperative Service.

[FR Doc. 2020-26771 Filed 12-4-20; 8:45 am]

BILLING CODE 3410-XY-P